DEPARTMENT OF HOMELAND SECURITY

Federal Emergency Management Agency

[Internal Agency Docket No. FEMA-4353-DR; Docket ID FEMA-2018-0001]

California; Amendment No. 3 to Notice of a Major Disaster Declaration

AGENCY: Federal Emergency Management Agency, DHS.

ACTION: Notice.

SUMMARY: This notice amends the notice of a major disaster for the State of California (FEMA-4353-DR), dated January 2, 2018, and related determinations.

DATES: This amendment was issued February 9, 2018.

FOR FURTHER INFORMATION CONTACT: Dean Webster, Office of Response and Recovery, Federal Emergency Management Agency, 500 C Street SW, Washington, DC 20472, (202) 646-2833.

SUPPLEMENTARY INFORMATION: Notice is hereby given that, pursuant to the Bipartisan Budget Act of 2018, the Federal share of assistance, including direct Federal assistance, provided under section 407 of the Robert T. Stafford Disaster Relief and Emergency Assistance Act (42 U.S.C. 5173), with respect to a major disaster declared pursuant to such Act for damages resulting from a wildfire in calendar year 2017, shall be 90 percent of the eligible costs. The adjustment to the Federal share applies to assistance provided before, on, or after the date of enactment of the Act. The major disaster declared on January 2, 2018, for the State of California is amended as follows:

Federal funds for debris removal (Category A), including direct federal assistance, under the Public Assistance program is authorized at 90 percent of total eligible costs.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Brock Long,
Administrator, Federal Emergency Management Agency.

[FR Doc. 2018-03743 Filed 2-22-18; 8:45 am]

BILLING CODE 9111-23-P